DEPARTMENT OF COMMERCE

National Oceanic and Atmospheric Administration

[RTID 0648-XD007]

Fisheries of the Caribbean, Gulf of Mexico, and South Atlantic; Exempted Fishing Permits

AGENCY: National Marine Fisheries Service (NMFS), National Oceanic and Atmospheric Administration (NOAA), Commerce.

ACTION: Notice of receipt of an application for exempted fishing permit; request for comments.

SUMMARY: NMFS announces the receipt of an application for an exempted fishing permit (EFP) from Dr. Max Lee, Mote Marine Laboratory and Aquarium (Mote), Center for Fisheries Electronic Monitoring, Sarasota, Florida. If granted, the EFP would allow the retention of a limited number of undersized red grouper in Gulf of Mexico (Gulf) Federal waters by three federally permitted commercial reef fish bottom longline vessels. The results from this EFP are expected assist in Federal fishery management decisions.

DATES: Written comments must be received on or before August 4, 2023.

ADDRESSES: You may submit comments on the application, identified by “NOAA-NMFS-2023-0076” by any of the following methods:

Electronic Submission: Submit all electronic public comments via the Federal e-Rulemaking Portal. Go to https://www.regulations.gov and enter “NOAA-NMFS-2023-0076” in the Search box. Click on the “Comment” icon, complete the required fields, and enter or attach your comments.

Mail: Submit written comments to Rich Malinowski, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Electronic copies of the EFP application may be obtained from the Southeast Regional Office website at https://www.fisheries.noaa.gov/southeast/science-data/exempted-fishing-permit-mote-marine-lab-red-grouper-full-retention-study?check_logged_in=1.

FOR FURTHER INFORMATION CONTACT: Rich Malinowski, 727-824-5305; email: rich.malinowski@noaa.gov.

SUPPLEMENTARY INFORMATION: The EFP is requested under the authority of the Magnuson-Stevens Fishery Conservation and Management Act (Magnuson-Stevens Act; 16 U.S.C. 1801 et seq.), and regulations at 50 CFR 600.745(b) concerning exempted fishing.

Federal regulations at 50 CFR 622.37(b)(2)(i) prohibit the possession, sale, or purchase red grouper less the commercial minimum size limit of 18 inches (45.7 cm), total length (TL). The EFP would allow the possession, sale, and purchase of a limited number of undersized red grouper that are harvested seaward of a line approximating the 35-fathom (64-meter) contour on 3 federally permitted commercial vessels with eastern Gulf reef fish bottom longline endorsement (project vessels). The EFP would allow the applicant to study an optimized retention management strategy that would require retention of all undersized red grouper harvested by bottom longline gear in Gulf Federal waters deeper than 35 fathoms (64 meters). The project would also examine the effectiveness of incentivizing bottom longline fisherman to target fishing areas where undersized red grouper discards are historically low.

Over 6 years of electronic monitoring (EM) data collected by the applicant indicates that in the primary red grouper commercial fishing areas of the eastern Gulf, 46.7 percent of red grouper harvested in waters less than 35 fathoms (64 meters) are undersized and discarded. Of those discarded undersized red grouper, an estimated 25 percent of those discarded red grouper die after release. For red grouper commercially harvested in water deeper than 35 fathoms (64 meters), 18.7 percent of the fish are undersized and discarded, of which 42.7 percent estimated to die. These derived discard mortality estimates are a minimum value for bottom longline gear given the increased biological stresses on discarded fish that can occur when using this gear type. In 2018, the Southeast Data Assessment and Review 61, used a discard mortality rate of 44.1 percent for red grouper harvested with bottom longline gear.

The optimized retention management strategy tested under the EFP would require retention of all undersized red grouper harvested deeper than 35 fathoms on the three project vessels during their normal fishing operations. The applicant chose the 35 fathom (64 meter) depth contour based on the EM discard data, which indicates that approximately 3,000 lb (1,361 kg), gutted weight, of undersized red grouper would be subjected to high post-release mortality (and thus lost to both the fishery and the population) and could be sustainably retained. Therefore, the undersized fish retention limit is expected to eliminate red grouper discards in water deeper than 35 fathoms (64 meters). The 35 fathom (64 meter) depth contour is also consistent with the Gulf reef fish bottom longline seasonal prohibition in 50 CFR 622.35(b)(1).

The EFP would be effective from January 1, 2024, through December 31, 2024, or until the project vessels have retained a combined 3,000 lb (1,361 kg), gutted weight, of undersized red grouper. The three project vessels would be equipped with EM systems, which use multiple cameras and sensors to record fishing activity, and would be required to have the EM systems on during all commercial fishing activities. In Gulf Federal waters, all commercial grouper harvest occurs within the individual fishing quota (IFQ) system where each participating commercial vessel may harvest up to their respective allocation, in pounds, of an IFQ species. The three project vessels are part of the IFQ system and will possess the necessary red grouper allocation to harvest the amount of fish requested under the EFP. The three vessels will not be changing their normal fishing activities or normal fishing locations for the project, and except for the limited retention of undersized red grouper, would comply with all other applicable Federal regulations.

Undersized red grouper that are harvested in waters seaward of the line approximating the 35 fathom (64 meter) depth contour will be fitted with unique tags supplied to each vessel for this project. The tag will facilitate dockside sorting where these tagged undersized red grouper will be weighed separately to ensure that the poundage from undersized red grouper counted towards the total allowable amount under the EFP. Undersized red grouper will be weighed and processed through the IFQ system and assigned their own separate category on the weigh-out ticket, to note any pricing differences from the rest of the IFQ catch. The tagged fish will be further utilized by Florida Fish and Wildlife Conservation Commission (FWC) dockside samplers who will obtain biological data (e.g., length measurements, otoliths). The FWC will provide the otoliths with corresponding individual fish information to the NMFS laboratory in Panama City, Florida for aging analysis. Lastly, after the needed sampling, these fish will be sold by IFQ dealers and marketability of undersized red grouper would be assessed.

All trips made by the 3 project vessels will include 100 percent video review using established and approved protocols to verify fishing and project activity. The fish tags will serve to link each fish to a specific location of capture, documented through the EM systems and vessel monitoring system. Fish catch locations will be linked with associated metadata (e.g., depth, bottom type), available in a database of environmental, bathymetric, and physical data.

NMFS finds the application warrants further consideration based on a preliminary review. Possible conditions the agency may impose on the EFP, if granted, include but are not limited to, a prohibition on fishing within marine protected areas, marine sanctuaries, or special management zones without additional authorization.

A final decision on issuance of the EFP will depend on NMFS' review of public comments received on the application, consultations with the appropriate fishery management agencies of the affected states, the Gulf of Mexico Fishery Management Council, and the U.S. Coast Guard, and a determination that the activities to be taken under the EFP are consistent with all other applicable laws.

Authority: 16 U.S.C. 1801 et seq.

Dated: June 29, 2023.
Kelly Denit,
Director, Office of Sustainable Fisheries, National Marine Fisheries Service.

[FR Doc. 2023-14186 Filed 7-3-23; 8:45 am]

BILLING CODE 3510-22-P